FEDERAL COMMUNICATIONS COMMISSION

47 CFR Part 54

[WC Docket No. 10-90, 14-192, 11-42, 09-197; DA 15-851]

Wireline Competition Bureau Seeks To Refresh the Record on Pending Issues Regarding Eligible Telecommunications Carrier Designations and Obligations

AGENCY: Federal Communications Commission.

ACTION: Proposed rule.

SUMMARY: In this document, the Wireline Competition Bureau seeks to refresh the record on pending issues related to Eligible Telecommunications Carrier (ETC) designations and obligations in areas served by price cap carriers.

DATES: Comments are due on or before September 2, 2015 and reply comments are due on or before September 17, 2015.

ADDRESSES: You may submit comments, identified by WC Docket Nos. 10-90, 14-192, 11-42 or 09-197, by any of the following methods:

• Electronic Filers: Comments may be filed electronically using the Internet by accessing the ECFS: http://fjallfoss.fcc.gov/ecfs2/.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Heidi Lankau, Wireline Competition Bureau at (202) 418-7400 or TTY (202) 418-0484.

SUPPLEMENTARY INFORMATION: This is a synopsis of the Wireline Competition Bureau's document in WC Docket No. 10-90, 14-192, 11-42 and 09-197; DA 15-851, released July 23, 2015. The complete text of these documents are available for inspection and copying during normal business hours in the FCC Reference Information Center, Portals II, 445 12th Street SW., Room CY-A257, Washington, DC 20554.

I. Introduction

1. Against the backdrop of the relief already granted in the December 2014 Connect America Order, 80 FR 4446, January 27, 2015. The Wireline Competition Bureau (Bureau) seeks to refresh the record on issues raised in various proceedings related to ETC designations and obligations in areas served by price cap carriers. In the USF/ICC Transformation FNPRM, 76 FR 78384, December 16, 2011, the Commission noted that ETC service obligations and funding should be “appropriately matched, while avoiding consumer disruption in access to communications services.” It sought comment on how existing voice telephony service obligations for ETCs would change as funding shifts to new, more targeted mechanisms, including potentially via forbearance from the relevant requirements of section 214(e)(1). In the April 2014 Connect America FNPRM, 79 FR 39196, July 9, 2014, the Commission sought to develop the record further on how relieving incumbent local exchange carriers (LECs) of their ETC obligations would comport with section 214 of the Communications Act and what specific obligations incumbent LECs would be relieved of in areas where they do not receive high-cost support. In October 2014, USTelecom submitted a petition seeking, among other things, forbearance from the enforcement of section 214(e)(1)(A) where a price cap carrier receives no high-cost support. And recently the Commission released a FNPRM for the Lifeline program seeking comment on proposals for ETC relief from Lifeline obligations and incorporating the record from the Connect America and USTelecom forbearance petition proceedings into that docket.

2. Specifically, the Bureau seeks to refresh the record on the issues that remain pending and how the actions already taken in the December 2014 Connect America Order might affect the Commission's analysis with respect to these pending issues in several open dockets. In the December 2014 Connect America Order, the Commission did not resolve the issues that were raised in the Connect America Fund rulemaking proceeding and the forbearance petition regarding possible forbearance or other relief from the price cap carriers' ETC designations or the regulatory requirements imposed on ETCs for those census blocks where forbearance was not granted. Moreover, the Commission did not resolve the issue of granting broader forbearance or other relief from the ETC designations of the price cap carriers serving the census blocks where limited forbearance was granted. The Commission neither accepted nor rejected commenters' various arguments—whether in favor of, or against—such proposals. These issues remain pending to the extent originally raised in the rulemaking proceeding or the forbearance proceeding (or both).

II. Procedural Matters

1. Initial Regulatory Flexibility Act Analysis

3. The USF/ICC Transformation FNPRM and April 2014 Connect America FNPRM included Initial Regulatory Flexibility Analyses (IRFAs) pursuant to 5 U.S.C. 603, exploring the potential impact on small entities of the Commission's proposal concerning potential relief from ETC obligations. We invite parties to file comments on the IRFAs in light of this request to refresh the record.

2. Paperwork Reduction Analysis

4. This document does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

3. Filing Requirements

5. Interested parties may file comments and reply comments on or before the dates indicated on the first page of this document. Comments are to reference WC Docket Nos. 10-90, 14-192, 11-42, 09-197 and DA 15-851 and may be filed using the Commission's Electronic Comment Filing System (ECFS). See Electronic Filing of Documents in Rulemaking Proceedings, 63 FR 24121 (1998).

• Electronic Filers: Comments may be filed electronically using the Internet by accessing the ECFS: http://apps.fcc.gov/ecfs/.

Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

(1) All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

(2) Commercial overnight mail (other than U.S. Postal Service Express Mail and Priority Mail) must be sent to 9300 East Hampton Drive, Capitol Heights, MD 20743.

(3) U.S. Postal Service first-class, Express, and Priority mail must be addressed to 445 12th Street, SW., Washington DC 20554.

6. People with Disabilities: To request materials in accessible formats for people with disabilities (braille, large print, electronic files, audio format), send an email to fcc504@fcc.gov or call the Consumer & Governmental Affairs Bureau at 202-418-0530 (voice), 202-418-0432 (tty).

7. This matter shall continue to be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

8. For further information, please contact Heidi Lankau, Telecommunications Access Policy Division, Wireline Competition Bureau at 202-418-7400; or at TTY (202) 418-0484.

Federal Communications Commission.
Ryan B. Palmer,
Chief, Telecommunications Access Policy Division, Wireline Competition Bureau.

[FR Doc. 2015-18993 Filed 7-31-15; 8:45 am]

BILLING CODE 6712-01-P